DEPARTMENT OF DEFENSE

Department of the Army, Corps of Engineers

Notice of Intent To Prepare an Environmental Impact Statement for the Sparrows Point Container Terminal, Patapsco River, Baltimore County, Maryland

AGENCY: Department of the Army, U.S. Army Corps of Engineers, DoD.

ACTION: Notice of intent.

SUMMARY: The U.S. Army Corps of Engineers, Baltimore District (Corps), has received an application for a Department of the Army (DA) permit (Corps number NAB-2023-61200) for the Sparrows Point Container Terminal project from Tradepoint TiL Terminal, LLC, a joint venture between Tradepoint Atlantic and Terminal Investments Limited to construct a new container terminal in the Port of Baltimore. The Corps, as the lead agency under the National Environmental Policy Act (NEPA), has determined the proposed project may significantly affect the quality of the human environment and intends to prepare an environmental impact statement (EIS). The Corps action will be to issue, issue with modifications, or deny a DA permit for the proposed project. The EIS will assess the potential social, economic, and environmental impacts of the proposed project. The Corps is requesting public/agency comments regarding the scope of the EIS and issues that should be evaluated in the document.

DATES: A public scoping meeting is scheduled for Tuesday, January 23, 2024, beginning at 5:30 p.m. to 7:30 p.m. A virtual public scoping meeting is scheduled for Thursday, January 25, 2024, beginning at 11:30 a.m. to 1 p.m. See paragraph 6 in the Supplementary Information section for additional details.

ADDRESSES: Written comments regarding the proposed EIS scope should be submitted to: U.S. Army Corps of Engineers, Baltimore District, Attn: Ms. Maria Teresi, 2 Hopkins Plaza, Baltimore, MD 21201. Individuals who would like to provide comments electronically should submit comments by email to: NAB-SPCT@usace.army.mil The meeting address is the Sollers Point Multi-Purpose Center, 323 Sollers Point Road, Dundalk, MD 21222.

FOR FURTHER INFORMATION CONTACT: For information about this project or to be included on the mailing list for future updates and meeting announcements, contact Ms. Maria Teresi, USACE, by telephone at (410) 962-4252, email at NAB-SPCT@usace.army.mil or mail at the mailing address provided above.

SUPPLEMENTARY INFORMATION: The Corps intends to prepare an EIS for the proposed Sparrows Point Container Terminal (SPCT) project. The non-Federal sponsor for the study is Tradepoint TiL Terminal, LLC (TTT). The proposed project requires authorization from the Corps under section 404 of the Clean Water Act (33 U.S.C. 1344) for the discharge of dredged or fill material into waters of the United States, section 10 of the Rivers and Harbors Act of 1899 (33 U.S.C. 403) for the construction of any structure in or over navigable waters of the United States, section 408 of the Rivers and Harbors Act of 1899 (33 U.S.C. 408) for taking possession of, use of, or injury to harbor or river improvements, and section 103 of the Marine Protection, Research and Sanctuaries Act (33 U.S.C. 1413) for ocean disposal of dredged material. All comments received during the public scoping period will be considered by the Corps during preparation of the EIS.

1. Proposed Action. The project subject to review in an EIS involves construction of the proposed Sparrows Point Container Terminal which would consist of a +/−3,000 foot-long wharf with cranes, a container yard, gate complex, Intermodal/Rail Yard and various support structures. To provide vessel access to the wharf, the project includes dredging and placement of an anticipated 3.5-4.5 million cubic yards of dredged material for the required widening and deepening of the existing access channel and turning basin. The project dredging includes widening and deepening an existing access channel/turning basin, and connection into the Brewerton Federal Navigation channel. The proposed project plan also includes the construction of an offshore Dredged Material Containment Facility (DMCF) in the Patapsco River on the west side of Coke Point to provide placement capacity for dredged material. An offshore DMCF to provide capacity for the total anticipated dredged material volume would permanently fill approximately 100 acres of tidal waters of the United States. As part of the EIS process, the Corps will consider minimization measures for dredging and a combination of alternatives for dredged material placement.

The project includes a proposed compensatory mitigation plan. The compensatory mitigation plan is under development and will be completed as part of the development of the EIS.

2. Location. The project site is located within the Tradepoint Atlantic development on the Coke Point peninsula in the Patapsco River, Sparrows Point, Baltimore County, Maryland. [Latitude: 39.211222° and Longitude: −76.490349°]

3. Project Purpose. To develop Sparrows Point Container Terminal (SPCT), a new container terminal and associated facilities that would be located on the Coke Point Peninsula within the Patapsco River in Baltimore, Maryland.

4. Alternatives. The EIS will evaluate an array of alternatives for dredging, dredged material disposal, and construction. Alternatives may include, but are not limited to, no action alternative, dredged material placement options including upland disposal onsite, upland disposal offsite, beneficial and innovative reuse of dredge material, and offshore ocean placement. In order to accommodate the anticipated volume of dredged material, these options may be evaluated alone or on combination.

Specifically, alternatives may be combined to reduce the footprint of the offshore DMCF. These options include (1) a DMCF in the existing on-site High Head Reservoir; (2) use of existing offsite upland DMCFs; (3) ocean disposal of dredged material; (4) a nearshore DMCF; and/or (5) beneficial reuse.

Mitigation measures could include, but are not limited to, avoidance and minimization, enhancement, restoration, or establishment of wetlands.

5. Scoping Process. The scoping period will continue for 60 days from the date of this Notice of Intent. During the scoping period, the Corps invites federal, state, and local agencies, Native American Tribes, other interested parties, and the general public to participate in the scoping process. The purpose of the scoping process is to provide information to the public, serve as a mechanism to solicit agency and public input on alternatives, identify significant issues to be analyzed in the EIS, and ensure full and open participation in scoping for the draft EIS. Scoping comments may be submitted by conventional mail or email. All comments must include the Corps number NAB-2023-61200. To be accepted, email comments must originate from the author's email account. All comments received will become part of the administrative record and are subject to public release under the Freedom of Information Act including any personally identifiable information such as names, phone numbers, and addresses. Additional information on the project and scoping process are available on the Corps' website at this link: https://www.nab.usace.army.mil/SPCT/

6. Scoping Meetings. The Corps will conduct public scoping meetings during the scoping period in which agencies, organizations, and members of the general public are invited to present comments or suggestions with regard to the range of actions, alternatives, and potential impacts to be considered in the EIS. The Corps has scheduled two public scoping meetings, one in-person and one virtual as described below: (a) In-person: Tuesday, January 23, 2024, at 5:30 p.m. Display material and staff will be available beginning at 5:30 p.m. with a presentation following at 6 p.m. at the Sollers Point Multi-Purpose Center; 323 Sollers Point Rd, Dundalk, MD 21222; and (b) Virtual: Thursday, January 25, 2024, beginning at 11:30 a.m. to 1 p.m. Access the virtual scoping meeting at this link: https://bit.ly/SparrowsPoint2024

7. Availability of the Draft EIS. The draft EIS is estimated to be available for public review and comment in January 2025. At that time, a public review period will be provided for public review and comment on the draft EIS.

8. Analyses and Consultation. The EIS will be integrated with analyses and consultation required by the National Environmental Policy Act (NEPA), section 10 of the Rivers and Harbors Act, section 401 and section 404 of the Clean Water Act, section 7 of the Endangered Species Act, section 103 of the of the Marine Protection, Research and Sanctuaries Act (MPRSA), the Clean Air Act, the U.S. Fish and Wildlife Coordination Act, section 106 of the National Historic Preservation Act, Prime and Unique Farmlands, and the Magnuson-Stevens Fishery Conservation and Management Act. All appropriate documentation (i.e., section 7, section 106 coordination letters, and public and agency comments) will be obtained and included as part of the EIS. As part of the EIS process, recommendations will be based on an evaluation of the probable impact of the proposed activity on the public interest. The decision will reflect the national concern for the protection and utilization of important resources. The benefit, which may reasonably be expected to accrue from the proposal, will be balanced against its reasonably foreseeable detriments. All factors that may be relevant to the proposal will be considered, among these are wetlands; fish and wildlife resources; cultural resources; land use; water and air quality; hazardous, toxic, and radioactive substances; threatened and endangered species; regional geology; aesthetics; environmental justice; navigation; cumulative impacts; and the general needs and welfare of the public.

Reinhard W. Koenig,
Programs Director, North Atlantic Division, US Army Corps of Engineers.

[FR Doc. 2023-27650 Filed 12-15-23; 8:45 am]

BILLING CODE 3720-58-P